DEPARTMENT OF TRANSPORTATION

Federal Aviation Administration

14 CFR Part 39

[Docket No. FAA-2024-1470; Project Identifier MCAI-2023-01284-T; Amendment 39-22814; AD 2024-16-08]

RIN 2120-AA64

Airworthiness Directives; MHI RJ Aviation ULC (Type Certificate Previously Held by Bombardier, Inc.) Airplanes

AGENCY: Federal Aviation Administration (FAA), DOT.

ACTION: Final rule.

SUMMARY: The FAA is adopting a new airworthiness directive (AD) for certain MHI RJ Aviation ULC Model CL-600-2C10 (Regional Jet Series 700, 701 & 702), CL-600-2D15 (Regional Jet Series 705), and CL-600-2D24 (Regional Jet Series 900) airplanes. This AD was prompted by a report that the electrical harnesses in the overhead bin above the class divider may have insufficient or no separation with the class divider mounting plate. This AD requires inspecting the overhead bin electrical harnesses at the class dividers and modifying the class divider mounting plate assembly or accomplishing a temporary repair if necessary; and, eventually modifying the class divider mounting plate assembly if a modification was not done after accomplishing the inspection, as specified in a Transport Canada AD, which is incorporated by reference. The FAA is issuing this AD to address the unsafe condition on these products.

DATES: This AD is effective October 23, 2024.

The Director of the Federal Register approved the incorporation by reference of a certain publication listed in this AD as of October 23, 2024.

ADDRESSES:

AD Docket: You may examine the AD docket at regulations.gov under Docket No. FAA-2024-1470; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Transport Canada material identified in this AD, contact Transport Canada, Transport Canada National Aircraft Certification, 159 Cleopatra Drive, Nepean, Ontario K1A 0N5, Canada; telephone 888-663-3639; email TC.AirworthinessDirectives-Consignesdenavigabilite.TC@tc.gc.ca. You may find this material on the Transport Canada website at tc.canada.ca/en/aviation.

• You may view this material at the FAA, Airworthiness Products Section, Operational Safety Branch, 2200 South 216th Street, Des Moines, WA. For information on the availability of this material at the FAA, call 206-231-3195. It is also available at regulations.gov under Docket No. FAA-2024-1470.

FOR FURTHER INFORMATION CONTACT: Fatin Saumik, Aviation Safety Engineer, FAA, 1600 Stewart Avenue, Suite 410, Westbury, NY 11590; telephone 516-228-7300; email 9-avs-nyaco-cos@faa.gov.

SUPPLEMENTARY INFORMATION:

Background

The FAA issued a notice of proposed rulemaking (NPRM) to amend 14 CFR part 39 by adding an AD that would apply to certain MHI RJ Aviation ULC Model CL-600-2C10 (Regional Jet Series 700, 701 & 702), CL-600-2D15 (Regional Jet Series 705), and CL-600-2D24 (Regional Jet Series 900) airplanes. The NPRM published in the Federal Register on May 29, 2024 (89 FR 46336). The NPRM was prompted by AD CF-2023-79, dated December 21, 2023, issued by Transport Canada, which is the aviation authority for Canada (Transport Canada AD CF-2023-79) (also referred to as the MCAI). The MCAI states that the electrical harnesses in the overhead bin above the class divider may have insufficient or no separation with the class divider mounting plate. This condition, if not corrected, could result in the electrical harnesses becoming chafed, which could affect the following aircraft systems: ordinance signs, emergency lights/signs, passenger oxygen, and passenger address and air conditioning systems.

In the NPRM, the FAA proposed to require inspecting the overhead bin electrical harnesses at the class dividers and modifying the class divider mounting plate assembly or accomplishing a temporary repair if necessary; and, eventually modifying the class divider mounting plate assembly if a modification was not done after accomplishing the inspection, as specified in Transport Canada AD CF-2023-79. The FAA is issuing this AD to address the unsafe condition on these products.

You may examine the MCAI in the AD docket at regulations.gov under Docket No. FAA-2024-1470.

Discussion of Final Airworthiness Directive

Comments

The FAA received no comments on the NPRM or on the determination of the cost to the public.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

Transport Canada AD CF-2023-79 specifies procedures for inspecting the left-hand and right-hand overhead bin electrical harnesses at the class divider for damage (e.g., chafing), and if damage is found, modifying the class divider mounting plate assembly to improve the overhead bin harnesses protection or accomplishing a temporary repair. Transport Canada AD CF-2023-79 also specifies procedures for eventually modifying the class divider mounting plate assembly if a modification was not done after accomplishing the inspection (i.e., if a temporary repair was done or if no damage was found after accomplishing the inspection). This material is reasonably available because the interested parties have access to it through their normal course of business or by the means identified in the ADDRESSES section.

Costs of Compliance

The FAA estimates that this AD affects 246 airplanes of U.S. registry. The FAA estimates the following costs to comply with this AD:

Estimated Costs for Required Actions
Labor cost | Parts cost | Cost per product | Cost on U.S. operators
3 work-hours × $85 per hour = $255 | $0 | $255 | $62,730.
Up to 9 work-hours × $85 per hour = $765 | $366 | Up to $1,131 | Up to $278,226.

The FAA estimates the following costs to do any necessary on-condition actions that would be required based on the results of any required actions. The FAA has no way of determining the number of aircraft that might need these on-condition actions:

Estimated Costs of On-Condition Actions *
Labor cost | Parts cost | Cost per product
Up to 9 work-hours × $85 per hour = $765 | $366 | Up to $1,131.
* The FAA has received no definitive data on which to base the cost estimates for the on-condition optional temporary repair specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-16-08 MHI RJ Aviation ULC (Type Certificate Previously Held by Bombardier, Inc.): Amendment 39-22814; Docket No. FAA-2024-1470; Project Identifier MCAI-2023-01284-T.

(a) Effective Date

This airworthiness directive (AD) is effective October 23, 2024.

(b) Affected ADs

None.

(c) Applicability

This AD applies to MHI RJ Aviation ULC (type certificate previously held by Bombardier, Inc.) Model CL-600-2C10 (Regional Jet Series 700, 701 & 702), CL-600-2D15 (Regional Jet Series 705), and CL-600-2D24 (Regional Jet Series 900) airplanes, certificated in any category, as identified in Transport Canada AD CF-2023-79, dated December 21, 2023 (Transport Canada AD CF-2023-79), except for Group 3 and Group 5 airplanes identified Transport Canada AD CF-2023-79.

Note 1 to paragraph (c): Group 3 airplanes that are modified as specified in Service Bulletin 670BA-25-110 become Group 2 airplanes as identified in Transport Canada AD CF-2023-79.

Note 2 to paragraph (c): Group 5 airplanes that are modified as specified in Service Bulletin 670BA-25-057 become Group 4 airplanes as identified in Transport Canada AD CF-2023-79.

(d) Subject

Air Transport Association (ATA) of America Code 25, Equipment/furnishings.

(e) Unsafe Condition

This AD was prompted by a report that the electrical harnesses in the overhead bin above the class divider may have insufficient or no separation with the class divider mounting plate. The FAA is issuing this AD to address possible chafing of the electrical harness with the class divider mounting plate. The unsafe condition, if not addressed, could result in the electrical harnesses becoming chafed, which could affect the following aircraft systems: ordinance signs, emergency lights/signs, passenger oxygen, and passenger address and air conditioning systems.

(f) Compliance

Comply with this AD within the compliance times specified, unless already done.

(g) Requirements

Except as specified in paragraph (h) of this AD: Comply with all required actions and compliance times specified in, and in accordance with, Transport Canada AD CF-2023-79.

(h) Exception to Transport Canada AD CF-2023-79

(1) Where Transport Canada AD CF-2023-79 refers to its effective date or August 7, 2023 (the effective date of Transport Canada AD CF-2023-56, dated July 24, 2023), this AD requires using the effective date of this AD.

(2) Where Transport Canada AD CF-2023-79 refers to hours air time, this AD requires using flight hours.

(3) Where paragraph A. of Part I of Transport Canada AD CF-2023-79, specifies “and, modify as required,” for this AD, replace that text with “and, before further flight, modify as required.”

(4) Where any MHIRJ service information referenced in Transport Canada AD CF-2023-79 differs from any Safran service information referenced in Transport Canada AD CF-2023-79, the MHIRJ service information takes precedence over the Safran service information because the initial revision of the Safran service information does not list all affected part numbers.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (j) of this AD. Information may be emailed to: 9-AVS-NYACO-COS@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or MHI RJ Aviation ULC's Transport Canada Design Approval Organization (DAO). If approved by the DAO, the approval must include the DAO-authorized signature.

(j) Additional Information

For more information about this AD, contact Fatin Saumik, Aviation Safety Engineer, FAA, 1600 Stewart Avenue, Suite 410, Westbury, NY 11590; telephone 516-228-7300; email 9-avs-nyaco-cos@faa.gov.

(k) Material Incorporated by Reference

(1) The Director of the Federal Register approved the incorporation by reference (IBR) of the material listed in this paragraph under 5 U.S.C. 552(a) and 1 CFR part 51.

(2) You must use this service information as applicable to do the actions required by this AD, unless this AD specifies otherwise.

(i) Transport Canada AD CF-2023-79, dated December 21, 2023.

(ii) [Reserved]

(3) For Transport Canada AD CF-2023-79, contact Transport Canada, Transport Canada National Aircraft Certification, 159 Cleopatra Drive, Nepean, Ontario K1A 0N5, Canada; telephone 888-663-3639; email TC.AirworthinessDirectives-Consignesdenavigabilite.TC@tc.gc.ca. You may find this Transport Canada AD on the Transport Canada website tc.canada.ca/en/aviation.

(4) You may view this material at the FAA, Airworthiness Products Section, Operational Safety Branch, 2200 South 216th Street, Des Moines, WA. For information on the availability of this material at the FAA, call 206-231-3195.

(5) You may view this material at the National Archives and Records Administration (NARA). For information on the availability of this material at NARA, visit www.archives.gov/federal-register/cfr/ibr-locations, or email fr.inspection@nara.gov.

Issued on September 12, 2024.
Victor Wicklund,
Deputy Director, Compliance & Airworthiness Division, Aircraft Certification Service.

[FR Doc. 2024-21176 Filed 9-17-24; 8:45 am]

BILLING CODE 4910-13-P